DEPARTMENT OF STATE

[Public Notice: 11180]

Report to Congress Pursuant to Section 1245(e) of the National Defense Authorization Act for Fiscal Year 2013 (FY13 NDAA)

ACTION: Notice of Report.

FOR FURTHER INFORMATION CONTACT: Thomas Zarzecki, (202) 647 7594

Report: (July 30, 2020)

Section 1245(e) of the National Defense Authorization Act for Fiscal Year 2013, (also known as the Iran Freedom and Counter-Proliferation Act of 2012 (IFCA)), as delegated by Presidential Memorandum of June 3, 2013 (78 FR 35545), requires the Secretary of State, in consultation with the Secretary of the Treasury, to determine: (1) Whether Iran is (A) using any of the materials described in subsection (d) of Section 1245 of IFCA as a medium for barter, swap, or any other exchange or transaction, or (B) listing any of such materials as assets of the Government of Iran for purposes of the national balance sheet of Iran; (2) which sectors of the economy of Iran are controlled directly or indirectly by Iran's Islamic Revolutionary Guard Corps (IRGC); and (3) which of the materials described in subsection (d) are used in connection with the nuclear, military, or ballistic missile programs of Iran. Materials described in subsection (d) of Section 1245 are graphite, raw or semi-finished metals such as aluminum and steel, coal, and software for integrating industrial processes.

This report pursuant to Section 1245(e) of IFCA covers the period January 1, 2019 to June 30, 2020.

Following a review of the available information, and in consultation with the Department of the Treasury, the Secretary of State has determined that Iran is not using the materials described in Section 1245(d) as a medium for barter, swap, or any other exchange or transaction.

Following a review of the available information, and in consultation with the Department of the Treasury, the Secretary of State has determined Iran is listing gold as an asset of the Government of Iran for the purposes of the National Balance Sheet of Iran. Following a review of the available information, and in consultation with the Department of the Treasury, the Secretary of State has determined that the construction sector of Iran is controlled directly or indirectly by the IRGC.

Following a review of the available information, and in consultation with the Department of the Treasury, the Secretary of State has determined that the following certain types of materials are used in connection with the nuclear, military, or ballistic missile programs of Iran:

ALUMINIUM 319

ALUMINIUM 1100

ALUMINIUM 225

ALUMINIUM 6061

ALUMINIUM 6063

ALUMINIUM 6082

ALUMINIUM 7075

ALUMINIUM BROZE ALLOY UNS C63600 (CDA alloy 636)

ALUMINIUM OXIDE (Al2O3)

STEEL 302

STEEL 4130

STAINLESS STEEL 321

STAINLES SSTEEL 316

A877 STEEL

A228 STEEL

100Cr6-52100 STEEL

350 MARAGING STEEL (also known as MARAGING STEEL350)

300 MARAGING STEEL (also known as MARAGING STEEL300)

UNS Cl7200-TD01 [BERYLLIUM COPPER]

UNS C37000—CuZn38Pb1

TUNGSTEN COPPER

ALUMINIUM POWDER with purity above 98 percent

Gonzalo O. Suarez,
Acting Deputy Assistant Secretary, Bureau of International Security and Nonproliferation, Department of State.

[FR Doc. 2020-19118 Filed 8-28-20; 8:45 am]

BILLING CODE 4710-27-P